DEPARTMENT OF TRANSPORTATION

Federal Aviation Administration

14 CFR Part 71

[Docket No. FAA-2022-1232; Airspace Docket No. 22-ASO-19]

RIN 2120-AA66

Withdrawal of NPRM; Hickory, NC and Morganton, NC

AGENCY: Federal Aviation Administration (FAA), DOT.

ACTION: Proposed rule, withdrawal.

SUMMARY: The FAA is withdrawing the notice of proposed rulemaking published in the Federal Register on October 28, 2022, proposing to amend Class D and Class E airspace in Hickory, NC and Class E airspace in Morganton, NC.

DATES: The FAA is withdrawing the proposed rule published October 28, 2022 (87 FR 65178) as of April 25, 2025.

FOR FURTHER INFORMATION CONTACT: Christopher Stocking, Operations Support Group, Eastern Service Center, Federal Aviation Administration, 1701 Columbia Avenue, College Park, GA 30337; Telephone: (404) 305-5887.

SUPPLEMENTARY INFORMATION:

Reason for Withdrawal

The FAA is withdrawing the NPRM for Docket No, FAA-2022-1232 (87 FR 65178; October 28, 2022) amending Class D and Class E airspace for Hickory Regional Airport, Hickory, NC and Foothills Regional Airport, Morganton, NC, because the FAA has determined that additional airspace modifications are necessary to fully address the operational requirements in the area. Due to the scope of these changes and the time that has elapsed since the NPRM was published (October 28, 2022), the proposed action no longer accurately reflects the FAA's current plans for the airspace. As a result, the NPRM is being withdrawn. A new rulemaking action will be initiated in the future to propose updated airspace modifications as needed.

Conclusion

The FAA determined that the NPRM published on October 28, 2022, is unnecessary. Therefore, the FAA withdraws that NPRM.

The Withdrawal

Accordingly, pursuant to the authority delegated to me, the NPRM published in the Federal Register on October 28, 2022 (87 FR 65178) is hereby withdrawn.

Issued in College Park, Georgia, on April 14, 2025.
Andreese C. Davis,
Manager, Airspace & Procedures Team South, Eastern Service Center, Air Traffic Organization.

[FR Doc. 2025-06850 Filed 4-24-25; 8:45 am]

BILLING CODE 4910-13-P